DEPARTMENT OF HEALTH AND HUMAN SERVICES

National Institutes of Health

Office of the Secretary; Notice of Meeting

Pursuant to section 10(a) of the Federal Advisory Committee Act, as amended, notice is hereby given of a meeting of the National Science Advisory Board for Biosecurity.

The meeting will be held as a virtual meeting and is open to the public. Individuals who plan to view the virtual meeting and need special assistance or other reasonable accommodations to view the meeting should notify the Contact Person listed below in advance of the meeting. The meeting will be videocast and can be accessed from the NIH Videocasting and Podcasting website (http://videocast.nih.gov/).

Name of Committee: National Science Advisory Board for Biosecurity.

Date: September 21, 2022.

Time: 1:00 p.m. to 5:00 p.m.

Agenda: The National Science Advisory Board for Biosecurity (NSABB) meeting will include a progress update from the NSABB Working Group to Review and Evaluate Potential Pandemic Pathogen Care and Oversight (PC3O) Policy, and stakeholder engagement on topics related to the U.S. Government policies for the Oversight of Dual Use Research of Concern (DURC).

Place: National Institutes of Health, 6705 Rockledge Drive, Suite 630, Bethesda, MD 20892, (Virtual Meeting Link will be available at https://osp.od.nih.gov/biotechnology/national-science-advisory-board-for-biosecurity-nsabb/#meetings).

Contact Person: Cari Young, ScM, Acting Director, Division of Biosafety, Biosecurity, and Emerging Biotechnology Policy, Office of Science Policy, Office of the Director, National Institutes of Health, 6705 Rockledge Drive, Suite 630, Bethesda, MD 20892, (301) 594-3746, SciencePolicy@od.nih.gov.

To sign up to make an oral public comment at the meeting, please send an email to the Contact Person listed above at least one business day prior to the meeting date. Once all time slots are filled, only written comments will be accepted. Any interested person may file written comments by forwarding the statement to the Contact Person listed on this notice at least one business day prior to the meeting date. The statement should include the name, address, telephone number and, when applicable, the business or professional affiliation of the interested person. Other than name and contact information, please do not include any personally identifiable information or any information that you do not wish to make public. Proprietary, classified, confidential, or sensitive information should not be included in your comments. Please note that any written comments NIH receives may be posted unredacted to the Office of Science Policy website.

Information is also available on the NIH Office of Science Policy website: https://osp.od.nih.gov/biotechnology/national-science-advisory-board-for-biosecurity-nsabb/#meetings, where an agenda, link to the webcast meeting, and any additional information for the meeting will be posted when available. Materials for this meeting will be posted prior to the meeting. Please check this website for updates.

This notice is being published less than 15 days prior to the meeting due to scheduling difficulties.

Dated: September 13, 2022.
Melanie J. Pantoja,
Program Analyst, Office of Federal Advisory Committee Policy.

[FR Doc. 2022-20098 Filed 9-15-22; 8:45 am]

BILLING CODE 4140-01-P